DEPARTMENT OF EDUCATION

Magnet Schools Assistance Program

AGENCY: Office of Innovation and Improvement, Department of Education.

ACTION: Notice of final priority.

SUMMARY: The Assistant Deputy Secretary for Innovation and Improvement announces a priority under the Magnet Schools Assistance Program (MSAP). The Assistant Deputy Secretary may use this priority for competitions in fiscal year (FY) 2007 and later years. We intend this priority to encourage eligible applicants to focus on expanding their capacity to provide public school choice by using magnet schools to provide public school choice options to parents whose children attend schools that have been identified for school improvement, corrective action, or restructuring under Title I of the Elementary and Secondary Education Act of 1965, as amended (ESEA).

DATES: Effective Date: This priority is effective April 9, 2007.

FOR FURTHER INFORMATION CONTACT: Steven L. Brockhouse, U.S. Department of Education, 400 Maryland Avenue, SW., room 4W229, Washington, DC 20202-5970. Telephone: (202) 260-2476 or via Internet: steve.brockhouse@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: The MSAP provides grants to eligible local educational agencies (LEAs) and consortia of LEAs to support magnet schools that are part of an approved desegregation plan. For the purpose of the MSAP, a magnet school is a public elementary school, public secondary school, public elementary education center, or public secondary education center that offers a special curriculum capable of attracting substantial numbers of students of different racial backgrounds.

Through the implementation of magnet schools, MSAP resources support objectives and activities that enable all elementary and secondary students to achieve to high standards, hold schools and LEAs accountable for ensuring they do so, and help schools and LEAs develop and design innovative educational methods and practices that support desegregation efforts to eliminate, reduce, or prevent minority group isolation and increase choices in public elementary and secondary schools.

Consistent with the statutory purpose of the MSAP, magnet schools are designed to eliminate, reduce, or prevent minority group isolation in schools with substantial numbers or percentages of minority group students, bring students of different backgrounds together, assist LEAs in achieving systemic reforms, provide all students the opportunity to meet challenging State content standards and challenging State performance standards, and increase choices in public elementary and secondary schools.

The priority, Expanding Capacity to Provide Choice, provides eligible LEAs with an opportunity to continue to use magnet schools, consistent with their desegregation plan objectives for the elimination, reduction, or prevention of minority group isolation, to expand their capacity to provide public school choice to parents whose children attend schools identified for school improvement, corrective action, or restructuring.

The priority provides eligible applicants the flexibility to use either or both of two approaches to expanding their capacity to provide public school choice.

First, an eligible applicant could convert one or more schools identified for improvement, corrective action, or restructuring under Title I to magnet schools in order to improve the quality of teaching and instruction in these schools. Using this approach, conversion of a school to a magnet school would benefit students already attending the school by offering a magnet curriculum that would include subject matter or teaching methodology that is generally not available at other schools in the LEA and would be more challenging and innovative than the curricular program that the school had previously provided. The implementation of the magnet curriculum, along with resources such as equipment, supplies and staff development to support the implementation of the magnet curriculum, would also help the school reduce, eliminate, or prevent minority group isolation at the magnet school and/or at the sending schools by attracting other students, including higher-achieving students of different backgrounds, based on their interest in a curricular program that would not be available to them in the schools that they would otherwise attend.

Second, an eligible applicant could use higher-performing schools as magnet schools and, by doing so, significantly increase the opportunity for students attending schools identified for school improvement, corrective action, or restructuring to participate in public school choice by attending a higher-performing school. Using this approach, an eligible applicant would need to ensure that the magnet school would have sufficient space available to accommodate students who would likely be interested in transferring from schools identified for school improvement, corrective action, or restructuring. Additionally, the LEA would need to show how the enrollment of the magnet and/or sending schools (i.e., the schools identified for school improvement, corrective action, or restructuring from which students would transfer) would change in a manner that resulted in the elimination, reduction, or prevention of minority group isolation in those sending schools.

Under either approach, an applicant would be required to show how it would effectively inform parents whose children attend schools identified for school improvement, corrective action, or restructuring about the new choices made available to them in the magnet schools to be funded under the project.

We published a notice of proposed priority for this program in the Federal Register on April 12, 2006 (71 FR 18728).

There are no differences between the notice of proposed priority and this notice of final priority.

Public Comment

In the notice of proposed priority, we invited comments on the proposed priority. We did not receive any comments.

Note: This notice does not solicit applications. In any year in which we choose to use this priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Expanding Capacity To Provide Choice

This priority supports projects that will—

(1) Help parents whose children attend low-performing schools (that is, schools that have been identified for school improvement, corrective action, or restructuring under Title I of the Elementary and Secondary Education Act of 1965, as amended) by—

(a) Selecting schools identified for school improvement, corrective action, or restructuring under Title I as magnet schools to be funded under this project and improving the quality of teaching and instruction in these schools; or

(b) Maximizing the opportunity for students in low-performing schools to attend higher-performing magnet schools funded under the project and thereby reduce minority group isolation in the low-performing sending schools; and

(2) Effectively inform parents whose children attend low-performing schools about choices that are available to them in the magnet schools to be funded under the project.

Note: For the purpose of selecting applications under this priority, school improvement has the meaning given in 34 CFR 200.32(a)(1), corrective action has the meaning given in 34 CFR 200.33(a), and restructuring has the meaning given in 34 CFR 200.34(a).

Executive Order 12866

This notice of final priority has been reviewed in accordance with Executive Order 12866. Under the terms of the order, we have assessed the potential costs and benefits of this regulatory action.

The potential costs associated with the notice of final priority are those resulting from statutory requirements and those we have determined as necessary for administering this program effectively and efficiently.

In assessing the potential costs and benefits—both quantitative and qualitative—of this notice of final priority, we have determined that the benefits of the final priority justify the costs.

We have also determined that this regulatory action does not unduly interfere with State, local, and tribal governments in the exercise of their governmental functions.

Summary of potential costs and benefits: The potential cost associated with this final priority is minimal while the benefits are significant.

The benefit of the final priority is that it will help applicants prepare high-quality proposals that expand their capacity to provide public school choice to parents whose children attend schools that have not made adequate yearly progress.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR part 280.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text or PDF at the following site: http://www.ed.gov/programs/magnet/applicant.html.

Note: The official version of this document is the document published in the Federal Register. Free Internet access to the official edition of the Federal Register and the Code of Federal Regulations is available on GPO Access at: http://www.gpoaccess.gov/nara/index.html.

(Catalog of Federal Domestic Assistance Number 84.165A Magnet Schools Assistance Program)

Program Authority: 20 U.S.C. 7231-7231j.

Dated: March 6, 2007.
Morgan S. Brown,
Assistant Deputy Secretary for Innovation and Improvement.

[FR Doc. E7-4272 Filed 3-8-07; 8:45 am]

BILLING CODE 4000-01-P